DEPARTMENT OF HOMELAND SECURITY

U.S. Citizenship and Immigration Services

[CIS No. 2735-22; DHS Docket No. USCIS-2014-0006]

RIN 1615-ZB69

Reconsideration and Rescission of Termination of the Designation of Nicaragua for Temporary Protected Status; Extension of the Temporary Protected Status Designation for Nicaragua

AGENCY: U.S. Citizenship and Immigration Services (USCIS), Department of Homeland Security (DHS).

ACTION: Notice of Reconsideration and Rescission of Termination of the Designation of Nicaragua for Temporary Protected Status (TPS) and Notice of Extension of TPS Designation for Nicaragua.

SUMMARY: Through this notice, the Department of Homeland Security (DHS) announces that the Secretary of Homeland Security (Secretary) is rescinding the previous termination of the designation of Nicaragua for TPS, which was published on December 15, 2017 and extending the designation of Nicaragua for Temporary Protected Status (TPS) for 18 months, beginning on January 6, 2024 and ending on July 5, 2025. This extension allows existing TPS beneficiaries to retain TPS through July 5, 2025, so long as they otherwise continue to meet the eligibility requirements for TPS. Existing TPS beneficiaries who wish to extend their status through July 5, 2025, must re-register during the 60-day re-registration period as described in this notice.

DATES: The Rescission of Termination of the Designation of Nicaragua for TPS took effect June 9, 2023.

Extension of Designation of Nicaragua for TPS: The 18-month extension of TPS for Nicaragua begins on January 6, 2024, and will remain in effect through July 5, 2025. The extension impacts existing beneficiaries of TPS under the designation of Nicaragua.

Re-registration: The 60-day re-registration period for existing beneficiaries runs from November 6, 2023, through January 5, 2024.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Nicaragua's TPS designation by selecting “Nicaragua” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS announces the reconsideration and rescission of the termination of the designation of Nicaragua for TPS and the Secretary's decision to extend the TPS designation for 18 months from January 6, 2024, through July 5, 2025. This notice also sets forth procedures necessary for nationals of Nicaragua (or individuals having no nationality who last habitually resided in Nicaragua) to re-register for TPS and to apply for renewal of their Employment Authorization Documents (EADs) with USCIS.

Re-registration is limited to individuals who have previously registered or re-registered for TPS under Nicaragua's designation, whose applications were granted, and whose TPS has not been withdrawn for individual ineligibility for the benefit. Failure to re-register properly within the 60-day re-registration period may result in the withdrawal of your TPS following appropriate procedures. See 8 CFR 244.14.

For individuals who have already been granted TPS under Nicaragua's designation, the 60-day re-registration period runs from November 6, 2023, through January 5, 2024. USCIS will issue new EADs with a July 5, 2025, expiration date to eligible Nicaraguan TPS beneficiaries who timely re-register and apply for EADs.

Individuals who have a Nicaragua TPS application (Form I-821) and Application for Employment Authorization (Form I-765) that were still pending as of June 21, 2023 do not need to file either application again. If USCIS approves an individual's pending Form I-821, USCIS will grant the individual TPS through July 5, 2025. Similarly, if USCIS approves a pending TPS-related Form I-765 filed in connection with a Form I-821, USCIS will issue the individual a new EAD that will be valid through the same date. If you have TPS and only a pending Form I-765, you must file the Form I-821 to re-register for TPS or risk having your TPS withdrawn for failure to timely re-register without good cause. There are currently approximately 4,000 beneficiaries under Nicaragua's TPS designation who may be eligible to continue their TPS under the extension announced in this Notice.

What is Temporary Protected Status (TPS)?

• TPS is a temporary immigration status granted to eligible nationals of a foreign state designated for TPS under the INA, or to eligible individuals without nationality who last habitually resided in the designated foreign state before arrival in the United States, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Nicaragua designated for TPS?

Nicaragua was initially designated on the basis of environmental disaster that prevented nationals of Nicaragua from returning in safety following this environmental disaster, at the request of the country's government, and because Nicaragua was unable, temporarily, to handle adequately the return of its nationals. See Designation of Nicaragua Under Temporary Protected Status, 64 FR 526 (Jan. 5, 1999). Since its initial designation in 1999, TPS for Nicaragua was extended 13 consecutive times (for periods of 12 or 18 months at a time) under the same statutory basis of environmental disaster. The last such extension was due to expire on January 5, 2018.¹

¹ Extension of the Designation of Nicaragua for Temporary Protected Status, 81 FR 30325 (July 6, 2016).

Following the statutorily required review of the country conditions, former Acting Secretary Elaine C. Duke announced the termination of TPS for Nicaragua, with an effective date of January 5, 2019. See Termination of the Designation of Nicaragua for Temporary Protected Status, 82 FR 59636 (Dec. 15, 2017); see also INA secs. 244(b)(3)(A) and (B); 8 U.S.C. 1254a(b)(3)(A) and (B). As discussed below, this termination decision has been the subject of litigation and a court order. As a result, the termination has not taken effect.

Litigation Background Regarding Termination of Certain TPS Designations

In addition to Nicaragua, in 2017-2018, TPS termination decisions were also announced for five other countries by the Secretary or Acting Secretary: Sudan, El Salvador, Haiti, Nepal, and Honduras.² Lawsuits challenging the terminations were filed in the U.S. District Court for the Northern District of California in Ramos v. Nielsen, 326 F. Supp. 3d 1075 (N.D. Cal. 2018), and Bhattarai v. Nielsen, No. 19-cv-00731 (N.D. Cal. Mar. 12, 2019), and in the U.S. District Court for the Eastern District of New York in Saget v. Trump, 375 F. Supp. 3d 280 (E.D.N.Y. 2019).³ In Ramos, the district court granted a preliminary injunction enjoining the terminations of TPS for El Salvador, Haiti, Sudan, and Nicaragua and directed DHS to maintain the status quo and to continue the TPS and TPS-related documentation of affected TPS beneficiaries under those countries' designations. The U.S. Government appealed, and a three-judge panel vacated the injunction. The appellate court, however, has granted rehearing en banc of the panel decision, vacating the panel's decision.⁴ The district court's preliminary injunction thus remains in place. In Bhattarai the district court has stayed proceedings until the Ramos appeal is decided and approved the parties' stipulation for the continuation of TPS and TPS-related documentation for eligible, affected beneficiaries of TPS for Honduras and Nepal during the stay and pendency of the Ramos appeal. In Saget, the district court granted a preliminary injunction enjoining termination of TPS for Haiti, and the Government appealed. However, following the new TPS designation of Haiti in August 2021, the district court dismissed the lawsuit based on the parties' stipulation to dismissal.⁵ Beneficiaries under the TPS designations for El Salvador, Nicaragua, Sudan, Haiti, Honduras, and Nepal will retain their TPS while the preliminary injunction in Ramos remains in effect, and 120 days thereafter, provided that their TPS is not withdrawn because of individual ineligibility.⁶

² Termination of the Designation of Sudan for Temporary Protected Status, 82 FR 47228 (Oct. 11, 2017); Termination of the Designation of El Salvador for Temporary Protected Status, 83 FR 2654 (Jan. 18, 2018); Termination of the Designation of Haiti for Temporary Protected Status, 83 FR 2648 (Jan. 18, 2018); Termination of the Designation of Nepal for Temporary Protected Status, 83 FR 23705 (May 22, 2018); Termination of the Designation of Honduras for Temporary Protected Status, 83 FR 26074 (June 5, 2018). Haiti and Sudan were later newly designated for TPS on August 3, 2021 and April 19, 2022, respectively, for 18 months. See Designation of Haiti for Temporary Protected Status, 86 FR 41863 (Aug. 3, 2021); Designation of Sudan for Temporary Protected Status, 87 FR 23202 (Apr. 19, 2022).

³ See Ramos v. Nielsen, 336 F.Supp.3d 1075 (N.D. Cal. Oct. 3, 2018) (“Ramos”) (district court granted preliminary injunction against terminations of TPS for El Salvador, Haiti, Sudan, and Nicaragua). On appeal, a three-judge panel of the U.S. Court of Appeals for the Ninth Circuit vacated the district court's injunction and remanded the case to the district court, but the plaintiffs filed a motion for rehearing en banc. Ramos v. Wolf, 975 F.3d 872 (9th Cir. 2020). The appellate court did not issue its directive to the district court to make its vacatur of the injunction effective, thus the injunction remained in place. On February 10, 2023, the Ninth Circuit issued an order granting rehearing en banc and vacated the previous ruling from its three-judge panel. 59 F.4th 1010 (9th Cir. 2023). En banc arguments are scheduled to be heard during the week of June 20, 2023. In the meantime, the injunction remains in place. See also Bhattarai v. Nielsen, No. 19-cv-00731 (N.D. Cal. Mar. 12, 2019) (district court stayed proceedings until Ramos appeal decided and approved parties' stipulation for continued TPS and issuance of TPS-related documentation to eligible, affected beneficiaries of TPS for Honduras and Nepal during the stay and pendency of the appeal, treatment similar to that provided Ramos-covered individuals). Other litigation was filed relating to the terminations of El Salvador, Honduras, and Haiti. The Haiti-related case, NAACP v. U.S. Dep't of Homeland Sec., No. 1:18-cv-00239 (D. Md. Jan. 24, 2018) was dismissed on May 22, 2021, subsequent to the same DHS designation. Meanwhile, Centro Presente v. Biden, No. 1:18-cv-10340 (D. Mass. July 23, 2018), relating to El Salvador, Honduras, and Haiti, and Casa de Maryland v. Biden, No. 18-00845 (D. Md. Mar. 23, 2018), relating to El Salvador, are currently either stayed or subject to a pending stay motion.

⁴ Ramos v. Nielsen, 336 F. Supp. 3d 1075 (N.D. Cal. 2018), vacated, 975 F.3d 872 (9th Cir. 2020), pet. for reh'g en banc granted, 59 F.4th 1010 (Feb. 10, 2023) (No. 18-16981). (“Ramos”).

⁵ See Saget v. Trump, 375 F. Supp. 3d 280 (E.D.N.Y. 2019) and Order approving Stipulation of Dismissal, dated Oct. 15, 2021.

⁶ As noted, Haiti was newly designated for TPS on August 3, 2021 for 18 months. See Designation of Haiti for Temporary Protected Status, 86 FR 41863 (Aug. 3, 2021). On April 19, 2022, the Secretary also newly designated Sudan TPS. See Designation of Sudan for Temporary Protected Status, 87 FR 23202 (Apr. 19, 2022). Those designations cover all Haitian and Sudanese nationals who were eligible for TPS under the Haiti and Sudan TPS designations that were terminated in 2018 and 2017, respectively.

DHS has taken actions to ensure its continued compliance with the court orders in Ramos and Bhattarai. DHS has published periodic notices to continue TPS and extend the validity of TPS-related documentation previously issued to beneficiaries under the TPS designations for El Salvador, Haiti, Nicaragua, Sudan, Honduras, and Nepal.⁷ The most recent such notice continued TPS and extended the TPS-related documents specified in the notice through June 30, 2024.⁸ These extensions apply where the TPS beneficiary properly filed for re-registration during either the most recent DHS-announced registration period for their country, or any applicable previous DHS-announced re-registration periods for the beneficiary's country, or has a re-registration application that remains pending.⁹ Although the notice published at 87 FR 68717 remains valid, individuals who wish to remain eligible for TPS under the extension of TPS for Nicaragua announced in this notice through July 5, 2025, and any potential future extensions must apply for re-registration in accordance with the procedures announced in this notice.¹⁰ Failure to timely re-register without good cause is a ground for TPS withdrawal. See INA sec. 244(c)(3)(C), 8 U.S.C. 1254a(c)(3)(C); 8 CFR 244.17.

⁷ 83 FR 54764 (Oct. 31, 2018); 84 FR 7103 (Mar. 1, 2019); 84 FR 20647 (May 10, 2019) (correction notice issued at 84 FR 23578 (May 22, 2019)); 84 FR 59403 (Nov. 4, 2019); 85 FR 79208 (Dec. 9, 2020); 86 FR 50725 (Sept. 10, 2021) (correction notice issued at 86 FR 52694 (Sept. 22, 2021)).

⁸ Continuation of Documentation for Beneficiaries of Temporary Protected Status Designations of El Salvador, Haiti, Nicaragua, Sudan, Honduras, and Nepal, 87 FR 68717 (Nov. 16, 2022).

⁹ Id., at 68719.

¹⁰ Through the re-registration process, which is generally conducted every 12 to 18 months while a foreign state is designated for TPS, USCIS determines whether each TPS beneficiary is continuing to maintain individual eligibility for TPS, including but not limited to, the requirements related to disqualifying criminal or security issues. See Continuation of Documentation for Beneficiaries of Temporary Protected Status Designations for El Salvador, Haiti, Nicaragua, Sudan, Honduras, and Nepal, 87 FR 68717, 68720 (Nov. 16, 2022) (noting potential future action for TPS beneficiaries may include a requirement to re-register).

What authority does the Secretary have to reconsider and rescind the termination of TPS for Nicaragua and extend the prior designation?

Section 244(b)(1) of the INA, 8 U.S.C. 1254a(b)(1), authorizes the Secretary, after consultation with appropriate agencies of the U.S. Government, to designate a foreign state (or part thereof) for TPS if the Secretary determines that certain country conditions exist.¹¹ The decision to designate any foreign state (or part thereof) is a discretionary decision, and there is no judicial review of any determination with respect to the designation, termination, or extension of a designation. See INA sec. 244(b)(5)(A); 8 U.S.C. 1254a(b)(5)(A).

¹¹ Although the text of INA section 244(b)(1) continues to ascribe this power to the Attorney General, this authority is now held by the Secretary of Homeland Security by operation of the Homeland Security Act of 2002, Public Law 107-296, 116 Stat. 2135. See, e.g., 6 U.S.C. 557; Nielsen v. Preap, 139 S. Ct. 954, 959 n.2 (2019). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1).

At least 60 days before the expiration of a foreign state's TPS designation, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state no longer meets the conditions for TPS designation, the Secretary must terminate the designation. See INA sec. 244(b)(3)(B), 8 U.S.C. 1254a(b)(3)(B). If the Secretary does not determine that the foreign state no longer meets the conditions for TPS designation, the designation is extended for an additional period of 6 months or, in the Secretary's discretion, 12 or 18 months. See INA sec. 244(b)(3)(A), (C); 8 U.S.C. 1254a(b)(3)(A), (C).

On December 15, 2017, the Acting Secretary of Homeland Security issued notice of her decision that Nicaragua no longer continued to meet the conditions for TPS designation and announced the termination of TPS for Nicaragua. The Secretary also announced an orderly transition period of 12 months, such that the termination was set to go into effect on January 5, 2019. On March 12, 2018, as noted above, plaintiffs in Ramos filed suit challenging the termination decision for Nicaragua, as well as contemporaneous decisions to terminate TPS for El Salvador, Sudan, and Haiti. On October 3, 2018, the U.S. District Court for the Northern District of California issued a preliminary injunction order in Ramos, preventing the termination decision from going into effect until the court reaches a decision on the merits of the plaintiffs' claims and further directing that DHS maintain the status quo, including continuing TPS and TPS-related documentation such as EADs for affected beneficiaries. After reaching a stipulation with plaintiffs that no termination would go in effect for at least 120 days following the conclusion of any appeal, DHS has issued a series of Federal Register notices continuing TPS and TPS-related documentation for affected TPS beneficiaries, with the most recent continuation notice effective through June 30, 2024.¹² As a result, the announced termination of the TPS designation for Nicaragua has never gone into effect, and TPS beneficiaries under that designation have retained their TPS, unless it has been individually withdrawn pursuant to INA section 244(c)(3), 8 U.S.C. 1254a(c)(3).

¹² Continuation of Documentation for Beneficiaries of Temporary Protected Status Designations of El Salvador, Haiti, Nicaragua, Sudan, Honduras, and Nepal, 87 FR 68717 (Nov. 16, 2022).

An agency has inherent (that is, statutorily implicit) authority to revisit its prior decisions unless Congress has expressly limited that authority.¹³ The TPS statute does not limit the Secretary's inherent authority to reconsider any TPS-related determination, and upon reconsideration, to change the determination. See INA secs. 244(b)(3), (b)(5)(A); 8 U.S.C. 1254a(b)(3), (b)(5)(A).

¹³ Ivy Sports Medicine, LLC v. Burwell, 767 F.3d 81, 86 (D.C. Cir. 2014) (Kavanaugh, J.); see, e.g., id. (“[A]dministrative agencies are assumed to possess at least some inherent authority to revisit their prior decisions, at least if done in a timely fashion. . . . “[I]nherent authority for timely administrative reconsideration is premised on the notion that the power to reconsider is inherent in the power to decide.” (quotation marks and citations omitted)); NRDC v. Regan, 67 F.4th 397, 401 (D.C. Cir. 2023) (“[A]lthough the power to decide is normally accompanied by the power to reconsider, Congress undoubtedly can limit an agency's discretion to reverse itself.” (quotation marks omitted); Macktal v. Chao, 286 F.3d 822, 825-26 (5th Cir. 2002) (“It is generally accepted that in the absence of a specific statutory limitation, an administrative agency has the inherent authority to reconsider its decisions.”) (collecting cases); Mazaleski v. Treusdell, 562 F.2d 701, 720 (D.C. Cir. 1977) (“We have many times held that an agency has the inherent power to reconsider and change a decision if it does so within a reasonable period of time.”); see also Last Best Beef, LLC v. Dudas, 506 F.3d 333, 340 (4th Cir. 2007) (agencies possess especially “broad authority to correct their prior errors”).

Why is the Secretary rescinding the previous decision to terminate the TPS designation for Nicaragua?

After conducting an independent assessment of the country conditions in Nicaragua as they existed in 2017 and exist today, the Secretary has determined that Nicaragua's 1999 TPS designation should not have been terminated. As explained below, the conditions in Nicaragua that gave rise to its TPS designation in 1999 persisted in 2017 and persist to this day. Accordingly, the Secretary is, upon reconsideration, vacating the 2017 decision terminating Nicaragua's TPS designation and extending that designation for an additional 18 months.

Nicaragua was initially designated for TPS in 1999 on environmental disaster grounds following Hurricane Mitch, at the request of the country's government, and because Nicaragua was unable, temporarily to handle adequately the return of its nationals.¹⁴ The hurricane, which struck in 1998, killed approximately 2,500 people and 885 were reported missing.¹⁵ The devastation of Hurricane Mitch affected nearly 868,000 people.¹⁶ Landslides and floods destroyed entire villages and caused extensive damages to the transportation network, housing, medical and educational facilities, water supply and sanitation facilities, and the agricultural sector.¹⁷ Overall damage estimates ranged between $1.3-1.5 billion.¹⁸

¹⁴ See Designation of Nicaragua Under Temporary Protected Status, 64 FR 526 (Jan. 5, 1999).

¹⁵ OCHA, Central America—Hurricane Tropical Storm Mitch OCHA Situation Report No. 14, Nov. 16, 1998, available at https://reliefweb.int/report/belize/central-america-hurricanetropical-storm-mitch-ocha-situation-report-no-14 (last visited Nov. 7, 2022).

¹⁶ Id.

¹⁷ Nicaragua: Huracán Mitch Daños, Costos, Acciones de Rehabilitación del Gobierno y la Cooperación Internacional, Government of Nicaragua, May 28, 1999, available at https://reliefweb.int/report/nicaragua/nicaragua-hurac%C3%A1n-mitch-da%C3%B1os-costos-acciones-de-rehabilitaci%C3%B3n-del-gobierno-y-la (last visited Nov. 18, 2022).

¹⁸ Nicaragua Overview, U.S. Agency for International Development (USAID), http://web.archive.org/web/20110606154439/http://www.usaid.gov/pubs/bj2001/lac/ni/ (last visited Nov. 16, 2022). According to a USAID source, overall damages were US$1.5 billion. The Government of Nicaragua assessed damages at US$1.3 billion. See Nicaragua: Huracán Mitch Daños, Costos, Acciones de Rehabilitación del Gobierno y la Cooperación Internacional.

At the time of the decision to terminate the designation of TPS, Nicaragua continued to experience significant challenges due to the destruction of the hurricane. While the international community and the Government of Nicaragua helped to repair the damage and destruction left behind by Hurricane Mitch and there were notable improvements in some sectors, several sectors including housing and infrastructure remained severely impacted. In 2017, Habitat for Humanity reported that Nicaragua had one of the highest housing deficits in Central America stating, “The total deficit generates a need for 957,000 new houses and home improvements, and only 50 percent of the total need is covered between the private and public sectors.” ¹⁹ Moreover, though a significant amount of aid was dedicated to repairing and improving road infrastructure following Hurricane Mitch, transportation infrastructure in Nicaragua remained poor and suffered from damage from tropical storms and hurricanes.²⁰

¹⁹ Habitat for Humanity in Nicaragua, Habitat for Humanity, https://web.archive.org/web/20171121013537/https://www.habitat.org/where-we-build/nicaragua, (last visited June 6, 2017).

²⁰ Nicaragua > Infrastructure, Jane's Sentinel Security Assessment—Central America And The Caribbean, Feb. 3, 2017, http://janes.ihs.com/Janes/Display/1302302 (last visited Nov. 16, 2022).

Additionally, according to the 2017 Global Climate Risk Index, Nicaragua ranked as the 4th most affected country in the world by extreme weather events from 1996 to 2015; during this time, Nicaragua averaged $234.7 million in damages per year, and witnessed over 3,200 total fatalities from extreme weather events.²¹ Per the World Food Program, Nicaragua's vulnerability to natural disasters hinders its progress in addressing both poverty and food security.²²

²¹ Kreft, Sönke, Eckstein, David and Melchior, Inga, Global Climate Risk Index 2017, Germanwatch, p. 5-6, Nov. 2016, available at https://reliefweb.int/report/world/global-climate-risk-index-2017-who-suffers-most-extreme-weather-events-weather-related (last visited Nov. 17, 2022).

²² WFP Nicaragua Country Brief, World Food Programme, p.2, Feb. 2017, available at https://reliefweb.int/report/nicaragua/wfp-nicaragua-country-brief-february-2017 (last visited Nov. 17, 2022).

Since Hurricane Mitch, various hurricanes, tropical depressions, and tropical storms have made landfall in Nicaragua.²³ The conditions leading up to the decision to terminate show recurrent hydrometeorological and environmental events that delayed and prolonged Nicaragua's ability to recover. In 2016, heavy rains and wind once again caused damage and flooding in Nicaragua.²⁴ In July 2016, more than 8,900 people were affected, 3,900 people were evacuated, and nearly 1,700 homes were flooded due to heavy rains and flooding.²⁵ In November 2016, Hurricane Otto—a category 2 storm—damaged 817 and destroyed 120 homes and necessitated the evacuation of over 11,600 people.²⁶ Also, consecutive years of drought (from November 2013 to April 2016) ²⁷ negatively impacted agriculture, fishing, and hydroelectric energy production in Nicaragua.²⁸

²³ Central America—Drought in El Salvador, Guatemala, Honduras and Nicaragua, ACAPS, p.5, Sept. 29, 2015, available at https://reliefweb.int/report/el-salvador/acaps-briefing-note-central-america-drought-el-salvador-guatemala-honduras (last visited Nov. 17, 2022).

²⁴ Gobierno atiende a familias afectadas por fuertes vientos en Malpaisillo, Government of Nicaragua, Apr. 27, 2016, available at https://reliefweb.int/report/nicaragua/gobierno-atiende-familias-afectadas-por-fuertes-vientos-en-malpaisillo (last visited May 22, 2023); REDLAC Weekly Note on Emergencies Latin America & The Caribbean—Year 9—Volume 451, UNOCHA, May 10, 2016, available at https://reliefweb.int/report/ecuador/redlac-weekly-note-emergencies-latin-america-caribbean-year-9-volume-451 (last visited Nov. 17, 2022); Monitoring Emergencies: Nicaragua—06/01/2016: 509 people affected by rain, Pan American Health Organization, June 1, 2016, available at https://reliefweb.int/report/nicaragua/monitoring-emergencies-nicaragua-06012016-509-people-affected-rain (last visited Nov. 17, 2022); Ríos crecidos y zonas incomunicadas por las lluvias, El Nuevo Diario (Nica.), Jun. 6, 2016, available at https://reliefweb.int/report/nicaragua/r-os-crecidos-y-zonas-incomunicadas-por-las-lluvias (last visited Nov. 17, 2022); Monitoring Emergencies: Nicaragua—07/12/2016: 1,781 families have been affected in 9 municipalities due to flooding—Update, Pan American Health Organization, July 12, 2016, available at https://reliefweb.int/report/nicaragua/monitoring-emergencies-nicaragua-07122016-1781-families-have-been-affected-9 (last visited Nov. 17, 2022); Monitoring Emergencies: Nicaragua—12/13/2016: Strong rains affect the Southern Caribbean region, Pan American Health Organization, Dec. 13, 2016, available at https://reliefweb.int/report/nicaragua/monitoring-emergencies-nicaragua-12132016-strong-rains-affect-southern-caribbean (last visited Nov. 17, 2022); Más de 900 familias afectadas por lluvias, Redhum, Oct. 22, 2016, available at https://reliefweb.int/report/nicaragua/m-s-de-900-familias-afectadas-por-lluvias (last visited Nov. 17, 2022).

²⁵ Monitoring Emergencies: Nicaragua—07/12/2016: 1,781 families have been affected in 9 municipalities due to flooding—Update, Pan American Health Organization, July 12, 2016, available at https://reliefweb.int/report/nicaragua/monitoring-emergencies-nicaragua-07122016-1781-families-have-been-affected-9 (last visited Nov. 17, 2022); World events—ECHO Daily Map | 12/07/2016, European Commission Humanitarian Aid Office, July 12, 2016, available at https://reliefweb.int/map/world/world-events-echo-daily-map-12072016 (last visited Nov. 17, 2022).

²⁶ Humanitarian Bulletin—Latin America and the Caribbean, UNOCHA, p.2, Nov-Dec. 2016, available at https://reliefweb.int/report/world/humanitarian-bulletin-latin-america-and-caribbean-volume-30-november-december-2016 (last visited Nov. 17, 2022); Huracán Otto provoca daños en 817 viviendas, Redhum, Nov. 29, 2016, available at https://reliefweb.int/report/nicaragua/hurac-n-otto-provoca-da-os-en-817-viviendas (last visited Nov. 17, 2022); Rosario presenta informe sobre respuesta a familias afectadas por el huracán Otto, Redhum, Nov. 28, 2016, available at https://reliefweb.int/report/nicaragua/rosario-presenta-informe-sobre-respuesta-familias-afectadas-por-el-hurac-n-otto (last visited Nov. 17, 2022).

²⁷ Situación “muy grave” con 40 pozos comunitarios secos en Occidente, La Prensa (Nic.), Feb. 16, 2017, available at https://reliefweb.int/report/nicaragua/situaci-n-muy-grave-con-40-pozos-comunitarios-secos-en-occidente (last visited Nov. 17, 2022).

²⁸ Rios, Julia, In drought-hit central Nicaragua, water ‘is like looking for gold', Agence France-Presse, Apr. 7, 2016, available at https://www.yahoo.com/news/drought-hit-central-nicaragua-water-looking-gold-101011971.html?guccounter=1 (last visited Nov. 17, 2022); Silva, José Adán, Cambio climático seca a Nicaragua, Inter Press Service, Mar. 30, 2016, available at https://ipsnoticias.net/2016/03/cambio-climatico-seca-a-nicaragua/ (last visited Nov. 17, 2022).

The conditions in Nicaragua at the time of the TPS termination decision prevented Nicaraguan nationals from returning to Nicaragua in safety and negatively affected the country's ability to adequately handle the return of its nationals residing in the United States. As explained above, at the time of the decision to terminate TPS, Nicaragua continued to experience ongoing environmental disasters that were either insufficiently considered or not considered in the termination decision. The termination decision failed to adequately assess conditions in Nicaragua in 2017. Those conditions continued to substantially disrupt living conditions and temporarily affected the country's ability to adequately handle the return of its nationals residing in the United States. The Secretary has concluded that reconsideration is appropriate and timely, particularly given that the 2017 termination decision has not yet gone into effect due to the ongoing litigation and associated court orders.

What authority does the Secretary have to extend the designation of Nicaragua for TPS?

As noted above, section 244(b) of the INA, 8 U.S.C. 1254a(b), authorizes the Secretary, after consultation with appropriate agencies of the U.S. Government, to designate a foreign state (or part thereof) for TPS if the Secretary determines that certain country conditions exist and instructs the Secretary to periodically review the country conditions underpinning each designation and determine whether they still exist, leading to either termination or extension of the TPS designation. However, if the Secretary determines that the foreign state no longer meets the conditions for TPS designation, the Secretary must terminate the designation. See INA sec. 244(b)(3)(B), 8 U.S.C. 1254a(b)(3)(B). If the Secretary does not make a decision as to either extension or termination, then INA section 244(b)(3)(C) requires the automatic extension of the designation for six months (or 12 or 18 months in the Secretary's discretion).

Prior to the now-rescinded termination of the TPS designation for Nicaragua, the most recent extension of the designation was due to end on January 5, 2018.²⁹ In light of the Secretary's reconsideration and rescission of the December 15, 2017 decision to terminate the TPS designation for Nicaragua, there is no longer any standing secretarial determination that Nicaragua “no longer meets the conditions for designation” under INA section 244(b)(1). Accordingly, pursuant to INA section 244(b)(3)(C), and in the absence of an affirmative decision by any Secretary to extend the designation for 12 or 18 months rather than the automatic six months triggered by the statue, the TPS designation for Nicaragua shall have been extended in consecutive increments of six months between the date when the last designation extension was due to end on January 5, 2018, and the effective date of the TPS extension announced in this notice on January 6, 2024. Coupled with the existing Ramos order and corresponding Federal Register notices continuing TPS and TPS-related documentation for affected beneficiaries under the designation for Nicaragua, this means that all such individuals whose TPS has not been finally withdrawn for individual ineligibility are deemed to have retained TPS since January 5, 2018, and may re-register under procedures announced in this Notice.

²⁹ See Extension of the Designation of Nicaragua for Temporary Protected Status, 81 FR 30325 (July 6, 2016).

Why is the Secretary extending the TPS designation for Nicaragua for TPS for 18 months through July 5, 2025?

DHS has reviewed country conditions in Nicaragua. Based on the review, including input received from the United States Department of State (DOS) and other U.S. Government agencies, the Secretary has determined that an 18-month TPS extension is warranted because the conditions supporting Nicaragua's 1999 designation for TPS on the basis of environmental disaster remain.

As previously discussed, Nicaragua was originally designated for TPS in 1999 ³⁰ following Hurricane Mitch. Since the disastrous hurricane in 1998, Nicaragua has been encumbered by several significant natural disasters and environmental challenges.

³⁰ Designation of Nicaragua Under Temporary Protected Status, 64 FR 526 (Jan. 5, 1999).

Nicaragua continues to suffer from the residual effects of Hurricane Mitch, and subsequent disasters have caused additional damage and added to the country's fragility. “In the last 20 years, Nicaragua has been hit by major, extreme weather events such as Hurricanes Mitch in 1998, Beta in 2005, Felix in 2007, and most recently by hurricanes Eta and Iota in November 2020 . . . The economic, social, housing, and infrastructure losses have been devastating for the region.” ³¹ According to the International Federation of Red Cross and Red Crescent Societies (IFRC), Hurricane Eta and Hurricane Iota left severe damage in the region, including loss of lives.³² The “back-to-back major hurricanes affected 60 per cent of the national territory,” ³³ while “[c]oastal areas such as the North Caribbean Coast Autonomous Region (RACCN), a rural area mostly inhabited by indigenous and Afro-descendant peoples, bore the brunt of the destruction.” ³⁴ More than 3 million people were exposed to these hurricanes, with an estimated 1.8 million people affected.³⁵ Damages from the hurricanes were estimated at $738 million³⁶ and limited access to safe drinking water and sanitation facilities, damaged staple crops, and worsened food insecurity for vulnerable individuals.³⁷

³¹ Nicaragua: Preparatory Action for Disaster/Crisis—DREF Plan of Action, Operation No. MDRNI011, International Federation of Red Cross and Red Crescent Societies (IFRC), p.2, Sept. 3, 2021, available at https://reliefweb.int/report/nicaragua/nicaragua-preparatory-action-disastercrisis-dref-plan-action-operation-ndeg-mdrni011 (last visited Feb. 7, 2023).

³² OCHA, Nicaragua: Hurricanes Eta & Iota—Emergency Appeal No. MDR43007, Operation Update No. 2, International Federation of Red Cross and Red Crescent Societies (IFRC), p. 2, Jan. 20, 2021, available at https://reliefweb.int/report/nicaragua/nicaragua-hurricanes-eta-iota-emergency-appeal-n-mdr43007-operation-update-no-2 (last visited Feb. 7, 2023).

³³ OCHA, Nicaragua: Plan of Action | Hurricanes Eta and Iota, January 2021, Feb. 22, 2021, available at https://reliefweb.int/report/nicaragua/nicaragua-plan-action-hurricanes-eta-and-iota-january-2021-one-pager (last visited Feb. 7, 2023).

³⁴ OCHA, Nicaragua Action Plan to focus on recovery efforts after hurricanes Eta and Iota, United Nations Office for the Coordination of Humanitarian Affairs (UNOCHA), Mar. 17, 2021, available at https://www.unocha.org/story/nicaragua-action-plan-focus-recovery-efforts-after-hurricanes-eta-and-iota (last visited Feb. 7, 2023).

³⁵ OCHA, Nicaragua: Plan of Action | Hurricanes Eta and Iota, January 2021, Feb. 22, 2021, available at https://reliefweb.int/report/nicaragua/nicaragua-plan-action-hurricanes-eta-and-iota-january-2021-one-pager (last visited Feb. 7, 2023).

³⁶ Id.

³⁷ USAID, Nicaragua Assistance Overview, Aug. 2022, available at https://www.usaid.gov/humanitarian-assistance/nicaragua#:~:text=With%20approximately%20%2412.6%20million%20in,affected%20by%20Eta%20and%20Iota. (last visited Feb. 7, 2023).

On July 1, 2022, Tropical Storm Bonnie hit the Caribbean coast of Nicaragua.³⁸ The storm “caused flash flooding, overflow in rivers and landslides in the North and South Caribbean Coast,” ³⁹ and “affected 21 municipalities, flooding 300 homes, ripping off the roofs of 123 homes, and destroying 3 homes.” ⁴⁰ At least 3,000 people were evacuated,⁴¹ and “[t]ens of thousands of people across Nicaragua were left without power and more than 10,000 homes had no water.” ⁴² In addition, 12 people were injured,⁴³ and four people were killed when they were “swept away by rivers which had been turned into raging torrents by the heavy rains.” ⁴⁴

³⁸ Tropical Storm Bonnie hits Nicaragua's Caribbean Coast, AP, July 1, 2022, available at https://apnews.com/article/storms-central-america-tropical-cyclones-nicaragua-51688c5a8896b3679b0358004e20d076 (last visited Feb. 7. 2023).

³⁹ OCHA, WFP Nicaragua Country Brief, July 2022, Aug. 26, 2022, available at https://reliefweb.int/report/nicaragua/wfp-nicaragua-country-brief-july-2022 (last visited Feb. 7, 2023).

⁴⁰ PAHO, Natural Hazards Monitoring—5 August 2022, Aug. 5, 2022, available at https://www.paho.org/en/natural-hazards-monitoring/natural-hazards-monitoring-5-august-2022 (last visited Feb. 7, 2023).

⁴¹ Nicaragua—Floods (PAHO, SINAPRED, INETER) (ECHO Daily Flash of 06 July 2022), European Commission's Directorate-General for European Civil Protection and Humanitarian Aid Operations (ECHO), Jul. 6, 2022, available at https://reliefweb.int/report/nicaragua/nicaragua-floods-paho-sinapred-ineter-echo-daily-flash-06-july-2022 (last visited Feb. 7. 2023).

⁴² Buschschlüter, Vanessa, Storm Bonnie leaves deadly trail in Central America, BBC, July 4, 2022, available at https://www.bbc.com/news/world-latin-america-62037088 (last visited Feb. 7, 2023).

⁴³ Nicaragua—Floods (PAHO, SINAPRED, INETER) (ECHO Daily Flash of 06 July 2022), European Commission's Directorate-General for European Civil Protection and Humanitarian Aid Operations (ECHO), July 6, 2022, available at https://reliefweb.int/report/nicaragua/nicaragua-floods-paho-sinapred-ineter-echo-daily-flash-06-july-2022 (last visited Feb. 7, 2023).

⁴⁴ Buschschlüter, Vanessa, Storm Bonnie leaves deadly trail in Central America, BBC, July 4, 2022, available at https://www.bbc.com/news/world-latin-america-62037088 (last visited Feb. 7, 2023).

On October 9, 2022, Hurricane Julia hit Nicaragua's central Caribbean coast.⁴⁵ Reports indicate that Hurricane Julia damaged hundreds of homes but left no reported casualties.⁴⁶ The director of Nicaragua's disaster system reported that more than 13,000 families had been evacuated, more than 800 houses had been flooded, and many roofs had been damaged.⁴⁷

⁴⁵ Hurricane Julia hits Nicaragua with torrential rainfall, AP, Oct. 9, 2022, available at https://apnews.com/article/hurricanes-caribbean-storms-nicaragua-tropical-2a6032a0432971cb2c88a9643b5e8f75 (last visited Feb. 7, 2023).

⁴⁶ Tropical Storm Julia emerges over Pacific after crossing Nicaragua, Reuters, Oct. 10, 2022, available at https://www.reuters.com/business/environment/hurricane-julia-hits-nicaragua-with-high-winds-2022-10-09/ (last visited Feb. 7, 2023).

⁴⁷ Id.

In addition to hurricanes, Nicaragua has also been impacted by other hydrometeorological events ⁴⁸ and is also one of the countries in the Dry Corridor of Central America.⁴⁹ These environmental shocks have affected conditions throughout Nicaragua resulting in deaths, damage to homes and infrastructure, and loss of crops throughout the years.⁵⁰

⁴⁸ OCHA, Hydrometeorological and Climate Services Modernisation Plan For Nicaragua—January 2019, World Bank Group, p.2, Jan. 31, 2019, available at https://reliefweb.int/report/nicaragua/hydrometeorological-and-climate-services-modernisation-plan-nicaragua-january-2019 (last visited Feb. 7, 2023).

⁴⁹ OCHA, Central America's Dry Corridor: Turning emergency into opportunities, Oct. 19, 2022, available at https://reliefweb.int/report/honduras/central-americas-dry-corridor-turning-emergency-opportunities (last visited Feb. 7, 2023).

⁵⁰ Velásquez, Uriel, Lluvias dejan 14 muertos en Nicaragua [Rains leave 14 dead in Nicaragua], El Nuevo Diario (Ni.), Oct. 19, 2018, available at https://web.archive.org/web/20181019114015/https://www.elnuevodiario.com.ni/nacionales/477437-lluvias-dejan-14-muertos-nicaragua/; Nicaragua floods: DREF final report (8 July 2018), International Federation of Red Cross and Red Crescent Societies (IFRC), p.1, July 8, 2018, available at https://reliefweb.int/report/nicaragua/nicaragua-floods-dref-final-report-8-july-2018; A comprehensive action plan for the Dry Corridor in Nicaragua, Food and Agriculture Organization of the United Nations (FAO), Nov. 27, 2017, available at https://web.archive.org/web/20200731011949/https://www.fao.org/in-action/agronoticias/detail/en/c/1062713/; Moloney, Anastasia, In Honduras, years of drought pressure farmers to leave land, Reuters, Sept. 27, 2019, available at https://news.trust.org/item/20190927063451-szxlj/; Tórrez García, Cinthya, Trescientos mil nicaragüenses viven en riesgo ante sequía [Three hundred thousand Nicaraguans live at risk of drought], La Prensa (Ni.), Feb. 27, 2018, available at https://web.archive.org/web/20220613192407/https:/www.laprensani.com/2018/02/27/nacionales/2383214-trescientos-mil-nicaraguenses-viven-en-riesgo-ante-sequia; Josefsen Hermann, Lise, Caught between floods and drought: Farmers in Nicaragua living in uncertainty, DW, June 12, 2019, available at https://www.dw.com/en/caught-between-floods-and-drought-farmers-in-nicaragua-living-in-uncertainty/a-49021423; NICARAGUA: Dry spell in northern Nicaragua, ACAPS, p.1, July 24, 2019, available at https://www.acaps.org/sites/acaps/files/products/files/20190724_acaps_start_briefing_note_nicaragua_drought.pdf. (All sources listed in this footnote last visited Feb. 7, 2023).

In addition to the numerous environmental disasters following the 1998 hurricane, Nicaragua is experiencing political instability and a humanitarian crisis that continue to render the country temporarily unable to adequately handle the return of its nationals.

The Nicaraguan government's harsh response to domestic dissent and political opponents began in 2018 when President Ortega proposed to reduce social security benefits in Nicaragua which triggered protests.⁵¹ The government's response was repressive ⁵² and included an “estimated 325-600 extrajudicial killings, as well as torture, political imprisonment, and suppression of the press, and led to thousands of citizens going into exile” according to a 2019 Report of the High-Level Commission on Nicaragua of the Organization of the American States.⁵³ The Ortega government launched a new period of increased oppression beginning in May 2021, arresting dozens of government critics, including several revolutionary leaders who once fought alongside Ortega.⁵⁴

⁵¹ Nicaragua: Announcement of Ortega's re-election augurs a terrible new cycle for human rights, Amnesty International, Nov. 8, 2021, available at https://www.amnesty.org/en/latest/news/2021/11/nicaragua-announcement-of-ortegas-re-election-augurs-a-terrible-new-cycle-for-human-rights/ (last visited Feb. 7, 2023).

⁵² United Nations Human Rights Office of the Commissioner, Human Rights Committee Considers Report of Nicaragua in the Absence of a Delegation, Experts Ask about the Treatment of Protesters and Reported Fraudulent Practices in Past Elections, Oct. 19, 2022, available at https://www.ohchr.org/en/press-releases/2022/10/human-rights-committee-considers-report-nicaragua-absence-delegation-experts (last visited Feb. 7, 2023); Amnesty International, Shoot to Kill: Nicaragua's Strategy to Repress Protest, May 29, 2018, available at https://www.amnesty.org/en/documents/amr43/8470/2018/en/ (last visited Feb. 7, 2023).

⁵³ Congressional Research Service, Nicaragua in Brief: Political Developments in 2021, U.S. Policy, and Issues for Congress, November 4, 2021, available at https://crsreports.congress.gov (last visited Feb. 7, 2023).

⁵⁴ Congressional Research Service, Nicaragua in Brief: Political Developments and U.S. Policy, June 3, 2022, available at https://crsreports.congress.gov (last visited Feb. 7, 2023).

In a September 2022 report, the Office of the United Nations High Commissioner for Human Rights (OHCHR) reported that the “human rights situation in Nicaragua has progressively deteriorated since 2018.” ⁵⁵ The Associated Press noted in August 2022 that political stability in Nicaragua “has never fully returned” since the outbreak of protests in 2018 and the subsequent “crackdown by security forces and allied civilian militias.” ⁵⁶ Moreover, OHCHR reported that it had noted “a deterioration of the human rights situation” in 2022, “particularly regarding civil and political rights, in a context characterized by the absence of dialogue, the deepening of the political crisis, and the isolation of Nicaragua from the international ommunity.” ⁵⁷ As part of the government's authoritarian crackdown, it has shut down nearly 3,000 NGOs in 2022, reducing the number of organizations that would have assisted with disaster response and recovery efforts.⁵⁸ These actions along with insufficient investment in public works and other programs necessary for long-term socioeconomic development have impacted Nicaragua's ability to recover from Hurricane Mitch.

⁵⁵ Human Rights Situation in Nicaragua, OHCHR, p. 2, Sept. 2, 2022, available at https://reliefweb.int/report/nicaragua/human-rights-situation-nicaragua-report-united-nations-high-commissioner-human-rights-ahrc5142-unofficial-english-translation (last visited Feb. 7, 2023).

⁵⁶ Selser, Gabriela, and Hernández, Maria Teresa, EXPLAINER: Tension between Nicaragua and the Catholic Church, The Associated Press, Aug. 14, 2022, available at https://apnews.com/article/religion-caribbean-nicaragua-daniel-ortega-a445a59fd605f8089c5e661cb66c2773 (last visited Feb. 7, 2023).

⁵⁷ Human rights situation in Nicaragua, OHCHR, p.2, Sept. 2, 2022, available at https://reliefweb.int/report/nicaragua/human-rights-situation-nicaragua-report-united-nations-high-commissioner-human-rights-ahrc5142-unofficial-english-translation (last visited Feb. 7, 2023).

⁵⁸ Associated Press, Nicaragua orders Red Cross to close, in Ortega government's latest crackdown on civic groups, May 10, 2023, available at https://apnews.com/article/nicaragua-ortega-red-cross-crackdown-b34298af8fb89f89f0b8ab28b5b21e95 (last visited May 23, 2023).

The resulting instability has caused a humanitarian crisis. Between 2018 and 2020, more than 108,000 Nicaraguans fled their country, according to UNHCR.⁵⁹ Further, UNHCR has reported that in 2021, new asylum applications worldwide by nationals of Nicaragua were among the most commonly registered and experienced a five-fold increase from 2020.⁶⁰ The UN High Commissioner for Human Rights stated that the “sociopolitical, economic and human rights crises we are witnessing in Nicaragua are driving thousands of people from the safety of their homes. The number of Nicaraguans leaving the country is growing in unprecedented numbers, even higher than in the 1980s.” ⁶¹ UNHCR discussed “Conflict-Induced Displacement” in Nicaragua stating that, “[d]ue to the continuously deteriorating political and security situation coupled with ongoing state repression, thousands of people have been forced to flee their homes, hide in safe houses or leave the country altogether.” ⁶²

⁵⁹ As reported in Noticias Financieras, “Diaspora and Exiles Call for March Against `Electoral Fraud' in Nicaragua,” Oct. 19, 2021, referenced from Congressional Research Service, Nicaragua in Brief: Political Developments and U.S. Policy, June 3, 2022, available at https://crsreports.congress.gov (last visited Feb. 7, 2023).

⁶⁰ UNHCR, 2021 Global Trends Report, June 16, 2022, available at https://www.unhcr.org/62a9d1494/global-trends-report-2021 (last visited Feb. 7, 2023).

⁶¹ UN rights chief warns of `unprecedented' exodus from Nicaragua, Al Jazeera, June 16, 2022, available at https://www.aljazeera.com/news/2022/6/16/un-rights-chief-warns-of-unprecedented-exodus-from-nicaragua (last visited Feb. 7, 2023).

⁶² International Protection Considerations with Regard to People Fleeing Nicaragua, UNHCR, Jan. 2023, available at https://www.refworld.org/country,,UNHCR,,NIC,,63bc17264,0.html (last visited May 5, 2023).

As of June 2022, more than 260,000 Nicaraguans had been forced to flee their country, including 191,875 to Costa Rica, 30,937 to Mexico, 21,556 to the United States,⁶³ 8,124 to Guatemala, 6,774 to Spain, and 5,170 to Panama.” ⁶⁴ In early September 2022, reports indicated that Nicaraguans seeking asylum in Costa Rica were at its highest level since Nicaragua's political crisis exploded in April 2018.⁶⁵ Additionally, more than “200,000 pending applications and another 50,000 people waiting for their appointment to make a formal application” to seek asylum in Costa Rica, “Nicaraguans account for nearly nine out of 10 applicants.” ⁶⁶

⁶³ In January 2023, the Processes for Cubans, Haitians, Nicaraguans, and Venezuelans (CHNV) allowed for certain Nicaraguan nationals to request to come to the United States. The U.S. government will provide travel authorization for up to 30,000 individuals to come to the United States each month across the Cuban, Haitian, Nicaraguan, and Venezuelan parole processes. The United States has consistently met the cap since the implementation of the process. The 21,566 individuals noted above does not include Nicaraguan nationals who have come to the United States with travel authorization under CHNV.

⁶⁴ International Protection Considerations with Regard to People Fleeing Nicaragua, UNHCR, Jan. 2023, available at https://www.refworld.org/country,,UNHCR,,NIC,,63bc17264,0.html (last visited May 5, 2023).

⁶⁵ Castillo, Moises, and Sherman, Christopher, Fleeing Nicaraguans strain Costa Rica's asylum system, The Associated Press, Sept. 2, 2022, available at https://apnews.com/article/covid-health-elections-presidential-caribbean-52044748d15dbbb6ca706c66cc7459a5 (last visited Feb. 7, 2023).

⁶⁶ Id.

In summary, while progress has been made in repairing damage caused by the 1998 hurricane, Nicaragua continues to experience numerous natural disasters that significantly disrupt living conditions and adversely impact its ability to adequately handle the return of those granted TPS. Nicaragua is encumbered by the effects of several significant natural disasters, environmental challenges, political instability, and a resulting humanitarian crisis that adversely impact the country's ability to fully recover and continue to render the country temporarily unable to adequately handle the return of its nationals.

Based upon this review and after consultation with appropriate U.S. Government agencies, the Secretary has determined that:

• At the time the Secretary's decision to terminate Nicaragua's designation for TPS was announced on December 15, 2017, conditions in Nicaragua continued to support the country's designation for TPS on the ground of environmental disaster; therefore, the termination should be rescinded and such rescission is timely given that the termination has not yet gone into effect. See INA sec. 244(b)(1)(B), 8 U.S.C. 1254a(b)(1)(B).

• The conditions supporting Nicaragua's designation for TPS still continue to be met. See INA sec. 244(b)(3)(A) and (C), 8 U.S.C. 1254a(b)(3)(A) and (C).

• There has been an earthquake, flood, drought, epidemic, or other environmental disaster in Nicaragua resulting in a substantial, but temporary, disruption of living conditions in the area affected; Nicaragua is unable, temporarily, to handle adequately the return of its nationals; and Nicaragua officially requested designation of TPS. See INA sec. 244(b)(1)(B), 8 U.S.C. 1254a(b)(1)(B);

• The designation of Nicaragua for TPS should be extended for an 18-month period, beginning on January 6, 2024, and ending on July 5, 2025. See INA sec. 244(b)(3)(C), 8 U.S.C. 1254a(b)(3)(C).

Notice of the Rescission of TPS Termination and Extension of the TPS Designation of Nicaragua

Pursuant to my lawful authorities, including under sections 103(a) and 244 of the Immigration and Nationality Act, I am hereby rescinding the termination of the TPS designation of Nicaragua announced in the Federal Register at 82 FR 59636 on December 15, 2017. Due to this rescission and pursuant to INA section 244(b)(3)(C), as well as the ongoing preliminary injunction in Ramos v. Nielsen, 336 F. Supp. 3d 1075 (N.D. Cal. 2018), the TPS designation of Nicaragua has continued to automatically extend under the statute since May 16, 2016, without a standing secretarial determination as to whether TPS should be extended or terminated. TPS beneficiaries under the designation, whose TPS has not been finally withdrawn for individual ineligibility, therefore have continued to maintain their TPS since January 5, 2018.

By the authority vested in me as Secretary under INA section 244, 8 U.S.C. 1254a, I have determined, after consultation with the appropriate U.S. Government agencies, the statutory conditions supporting Nicaragua's designation for TPS on the basis of environmental disaster continue to be met. See INA secs. 244(b)(1)(B) and 244(b)(3)(A); 8 U.S.C. 1254a(b)(1)(B) and 1254a(b)(3)(A). On the basis of this determination, I am extending the existing designation of Nicaragua for TPS for 18 months, beginning on January 6, 2024, and ending on July 5, 2025. See INA sec. 244(b)(3)(C), 8 U.S.C. 1254a(b)(3)(C). Individuals holding TPS under the designation of Nicaragua may file to re-register for TPS under the procedures announced in this notice if they wish to continue their TPS under this 18-month extension.

Alejandro N. Mayorkas
Secretary, U.S. Department of Homeland Security.

Eligibility and Employment Authorization for TPS

Required Application Forms and Application Fees To Re-Register for TPS

To re-register for TPS based on the designation of Nicaragua, you must submit a Form I-821, Application for Temporary Protected Status during the 60-day reregistration period that starts on November 6, 2023, through January 5, 2024. There is no Form I-821 fee for re-registration. See 8 CFR 244.17. You may be required to pay the biometric services fee. If you can demonstrate an inability to pay the biometric services fee, you may request to have the fee waived. Please see additional information under the “Biometric Services Fee” section of this notice.

Individuals who have a Nicaragua TPS application (Form I-821) that was still pending as of June 21, 2023 do not need to file the application again. If USCIS approves an individual's Form I-821, USCIS will grant the individual TPS through July 5, 2025.

Required Application Forms and Application Fees To Obtain an EAD

Every employee must provide their employer with documentation showing they have a legal right to work in the United States. TPS beneficiaries are authorized to work in the United States and are eligible for an EAD which proves their employment authorization. If you have an existing EAD issued under the TPS designation of Nicaragua that has been auto-extended through June 30, 2024, by the notice published at 87 FR 68717, you may continue to use that EAD through that date. If you want to obtain a new EAD valid through July 5, 2025, you must file an Application for Employment Authorization (Form I-765) and pay the Form I-765 fee (or request a fee waiver, which you may submit on Form I-912, Request for Fee Waiver).

You may, but are not required to, submit Form I-765, Application for Employment Authorization, with your Form I-821 re-registration application. If you do not want a new EAD now, you can request one later by filing your I-765 and paying the fee (or requesting a fee waiver) at that time, provided you have TPS or a pending TPS application. If you have TPS and only a pending Form I-765, you must file the Form I-821 to re-register for TPS or risk having your TPS withdrawn for failure to re-register without good cause.

Information About Fees and Filing

USCIS offers the option to applicants for TPS under Nicaragua's designation to file Form I-821 and related requests for EADs online or by mail. When filing a TPS application, applicants can also request an EAD by submitting a completed Form I-765, with their Form I-821.

Online filing: Forms I-821 and I-765 are available for concurrent filing online.⁶⁷ To file these forms online, you must first create a USCIS online account.⁶⁸ However, if you are requesting a fee waiver, you cannot submit the applications online. You will need to file paper versions of the fee waiver request and the form for which you are requesting the fee waiver.

⁶⁷ Find information about online filing at “Forms Available to file Online,” https://www.uscis.gov/file-online/forms-available-to-be-file-online.

⁶⁸ “https://myaccount.uscis.gov/users/sign_up.”

Mail filing: Mail your application for TPS to the proper address in Table 1.

Table 1-Mailing Addresses

Mail your completed Form I-821, Application for Temporary Protected Status and Form I-765, Application for Employment Authorization, Form I-912, Request for Fee Waiver, if applicable, and supporting documentation to the proper address in Table 1.

Table 1—Mailing Addresses
If you send your paper applications via: | Then mail your application to:
U.S. Postal Service (USPS): | USCIS, Attn: TPS Nicaragua, P.O. Box 4413, Chicago, IL 60680-4388.
FedEx, UPS, or DHL deliveries: | USCIS, Attn: TPS Nicaragua (Box 4413), 131 S. Dearborn St., 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Nicaragua.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are | Mail to
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821. |
Filing Form I-131 based on a pending or approved Form I-821, and you are using FedEx, UPS, or DHL: | USCIS, Attn: I-131 TPS, 2501 S. State Hwy. 121 Business, Ste. 400, Lewisville, TX 75067.
You must include a copy of the receipt notice (Form I-797 or I-797C) showing we accepted or approved your Form I-821. |

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. Fees for Form I-765 and biometric services are also described in 8 CFR 103.7(b)(1) (Oct. 1, 2020). If necessary, you may be required to visit an Application Support Center to have your biometrics captured. For additional information on the USCIS biometric screening process, please see the USCIS Customer Profile Management Service Privacy Impact Assessment, available at https://www.dhs.gov/publication/dhsuscispia-060-customer-profile-management-service-cpms.

Refiling a TPS Re-Registration Application After Receiving a Denial of a Fee Waiver Request

You should file as soon as possible within the 60-day re-registration period so USCIS can process your application and issue your EAD promptly, if one has been requested. Properly filing early will also allow you to have time to refile your application before the deadline, should USCIS deny your fee waiver request. The fee waiver denial notice will contain specific instructions about resubmitting your application. However, you are urged to refile within 45 days of the date on any USCIS fee waiver denial notice, if possible. See INA sec. 244(c)(3)(C); 8 U.S.C. 1254a(c)(3)(C); 8 CFR 244.17(b). For more information on good cause for late re-registration, visit the USCIS TPS web page at www.uscis.gov/tps.

Note: A re-registering TPS beneficiary age 14 and older must pay the biometric services fee (but not the Form I-821 fee), or request a fee waiver, when filing a TPS re-registration application. As discussed above, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometrics services fee, if applicable (or request a fee waiver).

General employment-related information for TPS applicants and their employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through July 5, 2025, then you must file Form I-765, Application for Employment Authorization, and pay the associated fee (unless USCIS grants your fee waiver request).

Can my employer require that I provide any other documentation such as evidence of my status or proof of my Nicaraguan citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Nicaraguan citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin. Employers can refer to the compliance notice that DHS published on November 16, 2022, for information on how to complete the Form I-9 with TPS EADs that DHS extended through June 30, 2024.69

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch result means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

This Federal Register Notice does not invalidate the compliance notice DHS issued on November 16, 2022, which extended the validity of certain TPS documentation through June 30, 2024, and does not require individuals to present a Form I-797, Notice of Action. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Nicaragua; or

• Your Form I-94, Arrival/Departure Record or Form I-797, Notice of Action, as shown in the Federal Register notice published at 87 FR 68717.

Check with the government agency requesting documentation regarding which document(s) the agency will accept. Some state and local government agencies use SAVE to confirm the current immigration status of applicants for public benefits.

While SAVE can verify that an individual has TPS, each state and local government agency's procedures govern whether they will accept an unexpired EAD, Form I-797, Form I-797C, or Form I-94. It may also assist the agency if you:

a. Give the agency a copy of the relevant Federal Register notice listing the TPS-related document, including any applicable auto-extension of the document, in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or any automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to correct or update your immigration record, make an appointment, or submit a written request to correct records.

[FR Doc. 2023-13246 Filed 6-20-23; 8:45 am]

BILLING CODE 9111-97-P